ENVIRONMENTAL PROTECTION AGENCY

[EPA-HQ-OPP-2010-0014; FRL-8885-6]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a January 19, 2011 Federal Register Notice of Receipt of Requests from the registrants listed in Table 2 of Unit II. to voluntarily cancel these product registrations. In the January 19, 2011 notice, EPA indicated that it would issue an order implementing the cancellations, unless the Agency received substantive comments within the 180 day comment period that would merit its further review of these requests, or unless the registrants withdrew their requests. One comment was received during the 180-day comment period, but did not merit further review of the requests to voluntarily cancel certain pesticide registrations. Accordingly, EPA hereby issues in this notice a cancellation order granting the requested cancellations. Any distribution, sale, or use of the products subject to this cancellation order is permitted only in accordance with the terms of this order, including any existing stocks provisions.

DATES: The cancellations are effective August 31, 2011.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the Agency taking?

This notice announces the cancellation, as requested by registrants, of 60 products registered under FIFRA section 3. These registrations are listed in sequence by registration number in Table 1 of this unit.

Table 1—Product Cancellations
EPA Registration No. | Product name | Active ingredients
000004-00360 | Bonide Prometon 3.75% Liquid Vegetation Killer | Prometon.
000004-00414 | Total Weed Killer | Prometon.
000004-00446 | Bonide Total Vegetation Killer Concentrate | Prometon.
000228-00186 | Riverdale 1D + 1DP Low Vol | 2,4-D, 2-ethylhexyl ester 2-Ethylhexyl (R)-2-(2,4-dichlorophenoxy) propionate.
000961-00396 | Lebanon Moss Control | Ferrous sulfate monohydrate.
001022-00409 | Copper Naphthenate WR Wood Preservative Ready to Use | Copper naphthenate.
001022-00507 | Copper Naphthenate 1% | Copper naphthenate.
001022-00528 | Copper Naphthenate Concentration 8% | Copper naphthenate.
001022-00568 | Chapco CU-Nap 800 EC | Copper naphthenate.
001022-00571 | Chapco CU-Nap 400 | Copper naphthenate.
001022-00579 | Curap 20 Pak | Borax. Copper naphthenate.
001448-00149 | T-30-1 | 2-(Thiocyanomethylthio) benzothiazole.
001448-00150 | T-30-2 | 2-(Thiocyanomethylthio) benzothiazole.
001448-00152 | T-5-1 | 2-(Thiocyanomethylthio) benzothiazole.
001448-00153 | T-5-2 | 2-(Thiocyanomethylthio) benzothiazole.
001677-00199 | Quantum TB Disinfectant | Caprylic acid.
002217-00755 | Vegetation Killer 150 | Prometon.
002217-00756 | Vegetation Killer 250 | Prometon.
002217-00757 | Vegetation Killer 375 | Prometon.
003008-00093 | Copper 8-Quinolinolate | Copper, bis(8-quinolinolato-N1,O8)-.
004822-00503 | 8539 Disinfectant Spray Cleaner | 1-Octanaminium, N,N-dimethyl-N-octyl-, chloride. 1-Decanaminium, N-decyl-N,N-dimethyl-, chloride. 1-Decanaminium, N,N-dimethyl-N-octyl-, chloride.
004822-00504 | Tough Act The Heavy Duty Bathroom Cleaner | Alkyl*dimethyl benzyl ammonium chloride. Alkyl*dimethyl ethylbenzyl ammonium chloride.
004822-00505 | Dow Aerosol Disinfectant Bathroom Cleaner | Alkyl*dimethyl benzyl ammonium chloride. Alkyl*dimethyl ethylbenzyl ammonium chloride.
004822-00506 | Tough Act The Heavy Duty Aerosol Bathroom Cleaner | Alkyl*dimethyl benzyl ammonium chloride. Alkyl*dimethyl ethylbenzyl ammonium chloride.
004822-00507 | Dow Liquid Bathroom Cleaner | Alkyl*dimethyl benzyl ammonium chloride. Alkyl*dimethyl ethylbenzyl ammonium chloride.
007364-00042 | Tabex Quick Shot Tablets | Tricloro-s-triazinetrione.
007969-00078 | Basagran M-60 Herbicide | MCPA, dimethylamine salt; 3-Isopropyl-1H-2, 1,3-benzothiadiazin-4 (3H)-one-2,2-dioxide, sodium salt.
010707-00005 | Magnacide 434 | 1-(Alkyl* amino)-3-aminopropane hydroxyacetate *(as in fatty acids of coconut oil).
010707-00006 | Magnacide 461 | 1-(Alkyl* amino)-3-aminopropane hydroxyacetate *(as in fatty acids of coconut oil).
010707-00033 | Magnacide B-615 | 1-(Alkyl* amino)-3-aminopropane hydroxyacetate *(as in fatty acids of coconut oil).
010707-00054 | Microbiocide 56 | 1-(Alkyl* amino)-3-aminopropane hydroxyacetate *(as in fatty acids of coconut oil).
010707-00055 | X-cide 305 | 1-(Alkyl* amino)-3-aminopropane hydroxyacetate *(as in fatty acids of coconut oil).
019713-00151 | Drexel MSMA 8 | MSMA.
019713-00267 | Drexel MSMA 4 Plus | MSMA.
019713-00278 | Drexel MSMA Liquid 6 Plus | MSMA.
019713-00529 | Drexel MSMA 600 Herbicide | MSMA.
033955-00454 | ACME Vegetation Killer | Prometon.
034704-00816 | Liquid Moss Control | Ferric sulfate.
051036-00363 | Prompt 5L Herbicide | Atrazine. 3-Isopropyl-1H-2,1,3-benzothiadiazin-4 (3H)-one-2,2-dioxide, sodium salt.
051036-00415 | Laddock 5L Herbicide | Atrazine. 3-Isopropyl-1H-2,1,3-benzothiadiazin-4 (3H)-one-2,2-dioxide, sodium salt.
051036-00421 | Basagran AG | 3-Isopropyl-1H-2,1,3-benzothiadiazin-4 (3H)-one-2,2-dioxide, sodium salt.
053883-00064 | Martin's Fire Bait 2 | Hydramethylnon.
053883-00065 | Martin's Fire Ant Bait 1 | Hydramethylnon.
053883-00066 | Martin's Insect Bait 2 | Hydramethylnon.
053883-00067 | Martin's Insect Bait 1 | Hydramethylnon.
062719-00339 | MSMA 6.6 | MSMA.
062719-00340 | MSMA Plus “S“ | MSMA.
062719-00343 | MSMA 51% | MSMA.
066330-00386 | Fluroxypyr Technical | Fluroxypyr 1-methylheptyl ester.
086203-00019 | Yard and Patio Fogger | Piperonyl butoxide. Ethofenprox. Tetramethrin.
086203-00020 | Flying Insect Killer II | Piperonyl butoxide. Ethofenprox. Tetramethrin.
086203-00021 | Crawling Insect Killer I | Piperonyl butoxide. Ethofenprox. Tetramethrin.
086203-00022 | Premium Roach Spray | Piperonyl butoxide. Ethofenprox. Tetramethrin. Pyrethrins
CA020006 | Linex 50 DF | Linuron.
ID060002 | Platinum Insecticide | Thiamethoxam.
OR050004 | Subdue Maxx | D-Alanine, N-(2,6-dimethylphenyl)-N-(methoxyacetyl)-, methyl ester.
OR060002 | LSP Flowable Fungicide | Thiabendazole.
OR060014 | Outlook Herbicide | Dimethenamide-P.
OR060015 | Platinum | Thiamethoxam.
WA090006 | Nemacur 3 Emulsifiable Insecticide-Nematicide | Fenamiphos.

Table 2 of this unit includes the names and addresses of record for all registrants of the products in Table 1 of this unit, in sequence by EPA company number. This number corresponds to the first part of the EPA registration numbers of the products listed in Table 1 of this unit.

Table 2—Registrants of Cancelled Products
EPA Co. No. | Company name and address
4 | Bonide Products, Inc., Agent Registrations By Design, Inc., P.O. Box 1019, Salem, VA 24153-3805.
228 | Nufarm Americas Inc., 150 Harvester Drive, Suite 200, Burr Ridge, IL 60527.
961 | Lebanon Seaboard Corporation, 1600 East Cumberland St., Lebanon, PA 17042.
1022 | IBC Manufacturing Co., 416 E. Brooks Rd., Memphis, TN 38109.
1448 | Buckman Laboratories Inc., 1256 North McLean Blvd., Memphis, TN 38108.
1677 | Ecolab Inc., 370 North Wabasha St., St. Paul, MN 55102.
2217 | PBI/Gordon Corp., 1217 West 12th St., P.O. Box 014090, Kansas City, MO 64101-0090.
3008 | Osmose Inc., 980 Ellicott St., Buffalo, NY 14209.
4822 | S.C. Johnson & Son Inc., 1525 Howe St., Racine, WI 53403.
7364 | GLB Pool & Spa (An Arch Chemicals, Inc. Business), W175 N11163 Stonewood Drive, Suite 234, Germantown, WI 53022-4799.
7969 | BASF Corporation, 26 Davis Drive, P.O. Box 13528, Research Triangle Park, NC 27709-3528.
10707 | Baker Petrolite Corporation, 12645 West Airport Blvd., Sugar Land, TX 77478.
19713 | Drexel Chemical Company, 1700 Channel Ave., P.O. Box 13327, Memphis, TN 38113-0327.
33955 | PBI/Gordon Corp., 1217 West 12th St., P.O. Box 014090, Kansas City, MO 64101-0090.
34704 | Loveland Products, Inc., P.O. Box 1286, Greeley, Colorado 80632-1286.
51036 | BASF Sparks LLC, P.O. Box 13528, Research Triangle Park, NC 27709-3528.
53883 | Control Solutions, Inc., Agent Name: D. O'Shaughnessy Consulting, Inc., 427 Hide Away Circle, Cub Run, KY 42729.
62719 | Dow Agrosciences LLC, 9330 Zionsville Rd 308/2E, Indianapolis, IN 46268-1054.
66330 | Arysta LifeScience North America, LLC, 15401 Weston Parkway, Suite 150, Cary, NC 27513.
86203 | Mitsui Chemicals Agro, Inc., P.O. Box 5126, Vadosta, GA 31603-5126.
CA020006 | Pan American Seed Co., P.O. Box 506, Lompoc, CA 93438.
ID060002; OR060015; OR050004 | Syngenta Crop Protection, Inc., ATTN: Regulatory Affairs, P.O. Box 18300, Greensboro, NC 27419-8300.
OR060014 | BASF Corporation, Agricultural Products, 26 Davis Drive, P.O. Box 13528, Research Triangle Park, NC 27709-3528.
OR060002 | Bayer CropScience LP, 2 T.W. Alexander Drive, P.O. Box 12014, Research Triangle Park, NC 27709.
WA090006 | Bayer CropScience LP, 2 T.W. Alexander Drive, P.O. Box 12014, Research Triangle Park, NC 27709.

III. Summary of Public Comments Received and Agency Response to Comments

During the public comment period provided, EPA received one comment in response to the January 19, 2011 Federal Register notice announcing the Agency's receipt of the requests for voluntary cancellations of products listed in Table 1 of Unit II regarding the export of cancelled pesticide products. This comment was not relevant to the request to voluntarily cancel certain pesticide registrations. For more information regarding EPA's export policies for cancelled pesticides, see FIFRA section 17.

IV. Cancellation Order

Pursuant to FIFRA section 6(f), EPA hereby approves the requested cancellations of the registrations identified in Table 1 of Unit II. Accordingly, the Agency hereby orders that the product registrations identified in Table 1 of Unit II are cancelled. The effective date of the cancellations that are the subject of this notice is August 31, 2011. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of January 19, 2011 (76 FR 3138) (FRL-8857-1). The comment period closed on July 14, 2011.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until August 30, 2012, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the cancelled products.

Certain requests to voluntarily cancel pesticide products announced in the January 19, 2011 6(f) Notice, (FRL-8857-1) were omitted from this cancellation order because those products were cancelled in a previously published document. The effective date of cancellation of those products was July 15, 2011 as stated in the cancellation order titled: “Cancellation of Pesticides for Non-Payment of Year 2011 Registration Maintenance Fees.” The cancellation order was published July 27, 2011 (76 FR 44907) (FRL-8879-8) and can be found in docket EPA-HQ-OPP-2011-0558. See EPA docket EPA-HQ-OPP-2011-0558; FRL-8879-8 for a list of those registration numbers.

List of Subjects

Environmental protection, Pesticides and pests.

Dated: August 24, 2011.
Peter Caulkins,
Acting Director, Pesticide Re-evaluation Division, Office of Pesticide Programs.

[FR Doc. 2011-22135 Filed 8-30-11; 8:45 am]

BILLING CODE 6560-50-P